ENVIRONMENTAL PROTECTION AGENCY

[FRL-7653-3]

Great Lakes National Program Office Request for Initial Proposals for the Operation of the Integrated Atmospheric Deposition Network

AGENCY: Environmental Protection Agency.

ACTION: Notice of funding availability.

SUMMARY: The U.S. Environmental Protection Agency Great Lakes National Program Office (GLNPO) is requesting Initial Proposals for the management and operation (including field sampling and laboratory analysis) of the Integrated Atmospheric Deposition Network (IADN). IADN is a cooperative effort between the U.S. EPA and Environment Canada and assesses atmospheric deposition of persistent bioaccumulative toxic (PBT) substances to the Great Lakes. This Request for Initial Proposals (RFIP) addresses network management and operation including field sampling and sample analysis corresponding to a sample collection period of five years from September 1, 2004 to August 30, 2009 for the five currently operating U.S. sites and other sites as determined by program needs. This RFIP is for a cooperative agreement totaling up to $3,560,000 over five years.

DATES: The deadline for all Initial Proposals is 5 pm Central time, Monday evening, June 7, 2004.

ADDRESSES: The Funding Guidance is available on the Internet at http://www.epa.gov/glnpo/fund/rfp/iadnrfpip2004.html. It is also available from Melissa Hulting (312-886-2265/hulting.melissa@epa.gov).

FOR FURTHER INFORMATION CONTACT: Melissa Hulting, EPA-GLNPO, G-17J, 77 West Jackson Blvd., Chicago, IL 60604 (312-886-2265/hulting.melissa@epa.gov).

SUPPLEMENTARY INFORMATION: Assistance is available pursuant to Clean Water Act section 104(b)(3) for activities in the Great Lakes Basin and in support of the Great Lakes Water Quality Agreement. State pollution control agencies, interstate agencies, other public or nonprofit private agencies, institutions, and organizations are eligible to apply.

Dated: April 13, 2004.
Gary V. Gulezian,
Director, Great Lakes National Program Office.

[FR Doc. 04-9288 Filed 4-22-04; 8:45 am]

BILLING CODE 6560-50-P